NATIONAL AERONAUTICS AND SPACE ADMINISTRATION

[Notice 06-022]

U.S. Space-Based Positioning, Navigation, and Timing Advisory Board; Notice of Establishment of a NASA Advisory Committee, pursuant to the Federal Advisory Committee Act, 5 U.S.C. App. §§ 1 et seq.

AGENCY: National Aeronautics and Space Administration (NASA).

Explanation of Need: The President authorized a new national policy on December 8, 2004 that establishes guidance and implementation actions for space-based positioning, navigation, and timing programs, augmentations, and activities for U.S. national and homeland security, civil, scientific, and commercial purposes. The policy supersedes Presidential Decision Directive/National Science and Technology Council-6, U.S. Global Positioning System Policy, dated March 28, 1996. The new national policy states that a space-based Positioning, Navigation, and Timing Advisory Board shall be established. The Advisory Board shall be comprised of experts from outside the United States Government, and shall be chartered as a Federal Advisory Committee. In accordance with the new national policy, the NASA Administrator is establishing the U.S. Space-Based Positioning, Navigation, and Timing Advisory Board. This notice follows consultation with the Committee Management Secretariat, General Services Administration.

Name of Committee: U.S. Space-Based Positioning, Navigation, and Timing (PNT) Advisory Board.

Purpose and Objective: The U.S. Space-Based Positioning, Navigation, and Timing Advisory Board will provide advice on U.S. space-based PNT policy, planning, program management, and funding profiles in relation to the current state of national and international space-based PNT services. The U.S. Space-Based Positioning, Navigation, and Timing Advisory Board will function solely as an advisory body and will comply fully with the provisions of the Federal Advisory Committee Act (FACA).

Lack of Duplication of Resources: The U.S. Space-Based Positioning, Navigation, and Timing Advisory Board functions cannot be performed by the agency, another existing committee, or other means such as a public meeting.

Fairly Balanced Membership: Membership shall be comprised to ensure a balanced representation in terms of the points of view represented and the functions to be performed.

Duration: Continuing.

Responsible NASA Official: Dr. Scott Pace, Associate Administrator for Program Analysis and Evaluation, National Aeronautics and Space Administration, 300 E Street, SW., Washington, DC 20546, telephone (202) 358-1811.

Dated: March 27, 2006
P. Diane Rausch,
Advisory Committee Management Officer National Aeronautics and Space Administration.

[FR Doc. E6-4730 Filed 3-31-06; 8:45 am]

BILLING CODE 7510-13-P